DEPARTMENT OF COMMERCE

United States Patent and Trademark Office

Submission for OMB Review; Comment Request; Fastener Quality Act Insignia Recordal Process

The Department of Commerce will submit to the Office of Management and Budget (OMB) for clearance the following proposal for collection of information under the provisions of the Paperwork Reduction Act (44 U.S.C. Chapter 35).

Agency: United States Patent and Trademark Office, Commerce.

Title: Fastener Quality Act Insignia Recordal Process.

OMB Control Number: 0651-0028.

Form Number(s):

• PTO-1611.

Type of Request: Regular.

Number of Respondents: 82.

Average Hours per Response: 0.25.

Burden Hours: 20.5.

Cost Burden: $1,683.52.

Needs and Uses:

Under Section 5 of the Fastener Quality Act of 1999 (FQA), 15 U.S.C. 5401 et seq., certain industrial fasteners must bear an insignia identifying the manufacturer. It is also mandatory for manufacturers of fasteners covered by the FQA to submit an application to the United Stated Patent and Trademark Office (USPTO) for recordal of the insignia on the Fastener Insignia Register.

The procedures for the recordal of fastener insignia under the FQA are set forth in 15 CFR 280.300 et seq. The purpose of requiring both the insignia and the recordation is to ensure that certain fasteners can be traced to their manufacturers and to protect against the sale of mismarked, misrepresented, or counterfeit fasteners.

The insignia may be either a unique alphanumeric designation that the USPTO will issue upon request or a trademark that is registered at the USPTO or is the subject of an application to obtain a registration. After a manufacturer submits a complete application for recordal, the USPTO issues a Certificate of Recordal. These certificates remain active for five years. Applications to renew the certificates must be filed within six months of the expiration date or, upon payment of an additional surcharge, within six months following the expiration date.

If a recorded alphanumeric designation is assigned by the manufacturer, the designation becomes “inactive,” and the new owner must submit an application to reactivate the designation within six months of the date of assignment. If the recordal is based on a trademark application or registration, and that registration is assigned, the recordal becomes “inactive” and cannot be reactivated. Instead, the new owner of the trademark application or registration must apply for a new recordal. Manufacturers who record insignia must notify the USPTO of any changes of address.

This information collection includes one form, the Application for Recordal of Insignia or Renewal/Reactivation of Recordal Under the Fastener Quality Act (PTO-1611), which provides manufacturers with a convenient way to submit a request for the recordal of a fastener insignia or to renew or reactivate an existing Certificate of Recordal. Use of Form PTO-1611 is not mandatory, and applicants may instead prepare requests for recordal using their own format.

The public uses this information collection to comply with the insignia recordal provisions of the FQA. The USPTO uses the information in this collection to record or renew insignias under the FQA and to maintain the Fastener Insignia Register, which is open to public inspection. The public may download the Fastener Insignia Register from the USPTO Web site.

Affected Public: Businesses or other for-profits.

Frequency: On occasion.

Respondent's Obligation: Required to Obtain or Retain Benefits.

This information collection request may be viewed at reginfo.gov. Follow the instructions to view Department of Commerce collections currently under review by OMB.

Written comments may be submitted by any of the following methods:

• Email: InformationCollection@uspto.gov. Include “0651-0028 Fastener Quality Act Insignia Recordal Process” in the subject line of the message.

• Mail: Marcie Lovett, Records Management Division Director, Office of the Chief Information Officer, United States Patent and Trademark Office, P.O. Box 1450, Alexandria, VA 22313-1450.

• Federal Rulemaking Portal: http://www.regulations.gov.

Dated: January 21, 2015.
Marcie Lovett,
Records Management Division Director, USPTO, Office of the Chief Information Officer.

[FR Doc. 2015-01394 Filed 1-27-15; 8:45 am]

BILLING CODE 3510-16-P